COMMITTEE FOR PURCHASE FROM PEOPLE WHO ARE BLIND OR SEVERELY DISABLED

Procurement List, Proposed Additions

AGENCY: Committee for Purchase From People Who Are Blind or Severely Disabled.

ACTION: Proposed additions to the Procurement List.

SUMMARY: The Committee is proposing to add products and services to the Procurement List that will be furnished by nonprofit agencies employing persons who are blind or have other severe disabilities.

DATES: Comments Must Be Received On Or Before: 7/27/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSNs—Product Names

7930-00-NIB-0675—Floor Finish/Sealer, Black, Asphalt Floors, Water-Based, Slip-Resistant, 4/1 Gal. Bottles

7930-00-NIB-0717—Floor Finish/Sealer, Black, Water-Based, Slip-Resistant, Asphalt Floors, 5 Gal Can.

Mandatory Purchase For: Total Government Requirement

Mandatory Source of Supply: The Lighthouse of Houston, Houston, TX

Contracting Activity: General Services Administration, Fort Worth, TX

Distribution: B-List

NSNs—Product Names

8465-00-NIB-0160—Vest, Physical Training, Name Tag Velcro, Blue, Large

8465-00-NIB-0161—Vest, Physical Training, Name Tag Velcro, Blue, XLarge

8465-00-NIB-0226—Vest, Physical Training, Name Tag Velcro, 3″ White Reflective Vinyl Numbers, Blue, Large

8465-00-NIB-0227—Vest, Physical Training, Name Tag Velcro, 3″ White Reflective Vinyl Numbers, Blue, XLarge

8465-00-NIB-0180—Vest, Physical Training, Name Tag Velcro, Yellow, Large

8465-00-NIB-0181—Vest, Physical Training, Name Tag Velcro, Yellow, XLarge

8465-00-NIB-0228—Vest, Physical Training, Name Tag Velcro, 3″ White Reflective Vinyl Numbers, Yellow, Large

8465-00-NIB-0229—Vest, Physical Training, Name Tag Velcro, 3″ White Reflective Vinyl Numbers, Yellow, XLarge

8465-00-NIB-0182—Vest, Physical Training, Name Tag Velcro, Orange, Large

8465-00-NIB-0183—Vest, Physical Training, Name Tag Velcro, Orange, XLarge

8465-00-NIB-0230—Vest, Physical Training, Name Tag Velcro, 3″ White Reflective Vinyl Numbers, Orange, Large

8465-00-NIB-0231—Vest, Physical Training, Name Tag Velcro, 3″ White Reflective Vinyl Numbers, Orange, XLarge

Mandatory Purchase For: 100% of the requirement of the Department of Defense

Mandatory Source of Supply: Georgia Industries for the Blind, Bainbridge, GA

Contracting Activity: Defense Logistics Agency Troop Support, Philadelphia, PA

Distribution: C-List

NSNs—Product Names: 6135-01-447-0949—Non-rechargeable, 9V alkaline battery

Mandatory Purchase For: Total Government Requirement

Mandatory Source of Supply: Eastern Carolina Vocational Center, Inc., Greenville, NC

Contracting Activity: Defense Logistics Agency Land and Maritime, Columbus, OH

Distribution: A-List

Services

Service Type: Janitorial Service

Service Mandatory For: USDA Forest Service, White Mountain National Forest Headquarters, 71 White Mountain Drive, Campton, NH

Mandatory Source of Supply: Community Workshops, Inc., Boston, MA

Contracting Activity: Department of Agriculture, Forest Service, Allegheny National Forest, Warren, PA

Service Type: Custodial Service

Service Mandatory For: US Navy, Marine Corps Base, 1005 Michael Road, Camp Lejeune, NC

Mandatory Source of Supply: Coastal Enterprises of Jacksonville, Inc., Jacksonville, NC

Contracting Activity: Dept of the Navy, Commanding General, Camp Lejeune, NC

Service Type: Document Scanning Service

Service Mandatory For: Executive Office of the President, Washington, DC

Mandatory Source of Supply: Columbia Lighthouse for the Blind, Washington, DC

Contracting Activity: Executive Office of the President, Procurement and Contracts Branch, Office of Administration, Washington, DC

Barry S. Lineback,
Director, Business Operations.

[FR Doc. 2015-15702 Filed 6-25-15; 8:45 am]

BILLING CODE 6353-01-P